DEPARTMENT OF COMMERCE

National Oceanic and Atmospheric Administration

[RTID 0648-XF090]

Gulf Council Fishery Management Council; Public Meeting

AGENCY: National Marine Fisheries Service (NMFS), National Oceanic and Atmospheric Administration (NOAA), Commerce.

ACTION: Notice of hybrid meeting open to the public offering both in-person and virtual options for participation.

SUMMARY: The Gulf Fishery Management Council (Council) will hold a four-day meeting to consider actions affecting the Gulf of America fisheries in the exclusive economic zone (EEZ).

DATES: The meeting will convene Monday, August 25 through Thursday, August 28, 2025. Daily schedule as follows: Monday 8:30 a.m.-4:30 p.m., Tuesday 8:30 a.m.-5 p.m., Wednesday from 8:30 a.m.-4:30 p.m., and Thursday from 8:30 a.m.-3:15 p.m., CDT.

ADDRESSES: The meeting will take place at the Hilton Palacio del Rio (Riverwalk), located at 200 South Alamo Street, San Antonio, TX 78205, (210) 222-1400. If you prefer to “listen in,” you may access the log-on information by visiting our website at www.gulfcouncil.org.

Council address: Gulf Fishery Management Council, 4107 W Spruce Street, Suite 200, Tampa, FL 33607; telephone: (813) 348-1630.

FOR FURTHER INFORMATION CONTACT: Dr. Carrie Simmons, Executive Director, Gulf Fishery Management Council; telephone: (813) 348-1630.

SUPPLEMENTARY INFORMATION:

Monday, August 25, 2025; 8:30 a.m.-4:30 p.m., CDT

The meeting will begin in FULL COUNCIL for the induction of New Council Members followed by Committee Sessions. The Administrative/Budget Committee will present the 2023-2024 Audit Report, review Final 2025 Funded Budget and Activities and discuss Statement of Organization Practices and Procedures (SOPPs) and Administrative Handbook updates.

The Gulf SEDAR Committee will provide a meeting summary from the August 2025 SEDAR Steering Committee meeting, provide an update on the Southeast Fisheries Science Center Resources and review the Gulf SEDAR Schedule.

The Sustainable Fisheries Committee will review and discuss the Advisory Panel Summary Reports for Executive Order 14276 Restoring American Seafood Competitiveness and Executive Order 14192 Unleashing Prosperity through Deregulation. They will also review the Public Comment Summary Report on Executive Order Recommendations, organize and prioritize of Recommendations for the Executive Orders 14276 and 14192, receive an update from Louisiana and Texas on State Regulations for Wahoo, and discuss U.S. Coast Guard Safety Requirements to Carry Observers.

The Council will return to FULL COUNCIL for a CLOSED SESSION to discuss Scientific and Statistical Committee Membership.

Tuesday, August 26, 2025; 8:30 a.m.-5 p.m., CDT

The Council will begin with the Reef Fish Committee review of Final Action Items: Modifications to the Federal For-Hire Red Snapper Fishing Season, Reef Fish Amendment 58B: Modifications to Deep-water Grouper Management Measures and Draft Options: Reef Fish Amendment 58A: Shallow-water Grouper Complex Catch Level Management Considerations and for Reef Fish Amendment 62: Modifications to Gulf Red Grouper Management Measures. The Committee will review Recreational Initiative recommendations and prioritization and discuss Draft Options: Reef Fish Amendment 55/Snapper Grouper Amendment 44: Modifications to Mutton Snapper and Yellowtail Snapper Management Measures.

Wednesday, August 27, 2025; 8:30 a.m.-4:30 p.m., CDT

The Shrimp Committee will review Draft Shrimp Amendment 19: Shrimp Permit Moratorium, receive a presentation on Protected Resources Bycatch in Shrimp Trawls: A summary review of data for Reinitiation of Section 7 Consultation.

The Council will reconvene at approximately 10:15 a.m., CDT with a Call to Order, Announcements and Introductions, Adoption of Agenda and Approval of Minutes.

The Council will receive updates from the following supporting agencies: South Atlantic Council Liaison, Texas Law Enforcement Efforts, NOAA Office of Law Enforcement (OLE) Report and Presentation, Gulf States Marine Fisheries Commission, U.S. Coast Guard, U.S. Fish and Wildlife Service Department of State.

Following lunch, the Council will hold public testimony from 1 p.m. to 4:30 p.m., CDT for FINAL ACTION Items (a). Modifications to the Federal For-Hire Red Snapper Fishing Season and (b). Reef Fish Amendment 58B: Modifications to Deep-water Grouper Management Measures; Recommendations: E.O. 14276 Restoring American Seafood Competitiveness and E.O. 14192 Unleashing Prosperity through Deregulation and open testimony on other fishery issues or concerns. Public comment may begin earlier than 1 p.m. CDT but will not conclude before that time. Persons wishing to give public testimony in-person must register at the registration kiosk in the meeting room. Persons wishing to give public testimony virtually must sign up on the Council website on the day of public testimony. Registration for virtual testimony closes one hour (12 p.m. CDT) before public testimony begins.

Thursday, August 28, 2025; 8:30 a.m.-3:15 p.m., CDT

The Council will receive Committee reports from Administrative/Budget, Gulf SEDAR, Shrimp, Sustainable Fisheries and Reef Fish.

The Council will discuss Council Planning and Primary Activities, and Other Business items, if any.

The Council will hold an Election for Council Chair and Vice-Chair.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meetings. Actions will be restricted to those issues specifically listed in this notice and any issues arising after publication of this notice that require emergency action under section 305(c) of the Magnuson-Stevens Act, provided that the public has been notified of the Council's intent to take final-action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: August 11, 2025.
Rey Israel Marquez,
Acting Deputy Director, Office of Sustainable Fisheries, National Marine Fisheries Service.

[FR Doc. 2025-15367 Filed 8-12-25; 8:45 am]

BILLING CODE 3510-22-P